DEPARTMENT OF LABOR

Employment and Training Administration

[TA-W-40,449]

Clebert's Hosiery Mill, Inc., Connelly Springs, NC; Notice of Revised Determination on Reconsideration

By letter of March 29, 2002, the company requested administrative reconsideration regarding the Department's Negative Determination Regarding Eligibility to Apply for Worker Adjustment Assistance, applicable to the workers of the subject firm.

The initial investigation resulted in a negative determination issued on February 15, 2002, based on the finding that imports of socks did not contribute importantly to worker separations at the Connelly Springs plant. The denial notice was published in the Federal Register on February 28, 2002 (67 FR 9324).

The company requested that the Department examine industry data concerning the amount of sock imports entering the United States.

A review of relevant industry data, not available during the initial investigation, shows that sock imports increased significantly in the 2001 period indicating an increased reliance on imported socks during the 2001 period.

Conclusion

After careful review of the additional facts obtained on reconsideration, I conclude that increased imports of articles like or directly competitive with those produced at Clebert's Hosiery Mill, Inc., Connelly Springs, North Carolina, contributed importantly to the declines in sales or production and to the total or partial separation of workers at the subject firm. In accordance with the provisions of the Act, I make the following certification:

All workers of Clebert's Hosiery Mill, Inc., Connelly Springs, North Carolina, who became totally or partially separated from employment on or after November 7, 2000 through two years from the date of this certification, are eligible to apply for adjustment assistance under section 223 of the Trade Act of 1974.

Signed in Washington, DC, this 9th day of May, 2002.
Edward A. Tomchick,
Director, Division of Trade Adjustment Assistance.

[FR Doc. 02-13545 Filed 5-29-02; 8:45 am]

BILLING CODE 4510-30-P